DEPARTMENT OF COMMERCE

National Oceanic and Atmospheric Administration

RIN 0648-XC785

Pacific Fishery Management Council (Pacific Council); Public Meeting

AGENCY: National Marine Fisheries Service (NMFS), National Oceanic and Atmospheric Administration (NOAA), Commerce.

ACTION: Notice of public teleconference.

SUMMARY: The Groundfish Subcommittee of the Pacific Council's Scientific and Statistical Committee (SSC) will convene a teleconference, which is open to the public. To attend the SSC Groundfish Subcommittee teleconference, participants need to dial the following toll-free number and, when requested, the access code for the teleconference: telephone: (866) 781-8576; Access code: 67358852

DATES: The SSC Groundfish Subcommittee teleconference will be held beginning at 10:30 a.m., Friday, August 16, 2013 and end at 12 p.m. or as necessary to complete business for the day.

ADDRESSES: Does not apply. No listening stations are specified for the SSC Groundfish Subcommittee teleconference.

Council address: Pacific Council, 7700 NE Ambassador Place, Suite 101, Portland, OR 97220-1384.

FOR FURTHER INFORMATION CONTACT: Mr. John DeVore, Pacific Council; telephone: (503) 820-2280.

SUPPLEMENTARY INFORMATION: The purpose of the SSC Groundfish Subcommittee teleconference is to discuss analytical approaches for a meta-analysis of elasmobranch harvest rates designed to determine a reasonable proxy harvest rate designed to achieve maximum sustainable yield (FMSY) for elasmobranchs managed in the Pacific Coast Fishery Management Plan. No management actions will be decided by the SSC Groundfish Subcommittee. The Subcommittee's role will be development of analyses used to inform proxy FMSY harvest rates for consideration by the Pacific Council's SSC at its September meeting in Boise, ID. Any proxy FMSY harvest rates recommended for managing elasmobranchs will inform Pacific Council decisions for harvest specifications to be implemented in 2015 and beyond.

Although non-emergency issues not contained in the teleconference agenda may come before the Subcommittee participants for discussion, those issues may not be the subject of formal SSC Groundfish Subcommittee action during this meeting. Subcommittee action will be restricted to those issues specifically listed in this notice and any issues arising after publication of this notice that require emergency action under Section 305(c) of the Magnuson-Stevens Fishery Conservation and Management Act, provided the public has been notified of the Subpanel participants' intent to take final action to address the emergency.

Special Accommodations

This meeting is physically accessible to people with disabilities. Requests for sign language interpretation or other auxiliary aids should be directed to Mr. Kris Kleinschmidt at (503) 820-2280 at least 5 days prior to the teleconference date.

Dated: July 25, 2013.
Tracey L. Thompson,
Acting Deputy Director, Office of Sustainable Fisheries, National Marine Fisheries Service.

[FR Doc. 2013-18297 Filed 7-30-13; 8:45 am]

BILLING CODE 3510-22-P